FEDERAL ELECTION COMMISSION

Sunshine Act Meeting

Date and Time: Thursday, August 29, 2002 at 10 a.m.

Place: 999 E Street, NW., Washington, DC (ninth floor).

Status: This meeting will be open to the public.

Items to be Discussed:

Correction and Approval of Minutes.

Alternative Dispute Resolution Program Evaluation.

Administrative Matters.

PERSON TO CONTACT FOR INFORMATION: Mr. Ron Harris, Press Officer, Telephone: (202) 694-1220.

Mary W. Dove,
Secretary of the Commission.

[FR Doc. 02-21694 Filed 8-21-02; 2:51 pm]

BILLING CODE 6715-01-M